OFFICE OF PERSONNEL MANAGEMENT

Excepted Service

AGENCY: Office of Personnel Management (OPM).

ACTION: Notice.

SUMMARY: This gives notice of OPM decisions granting authority to make appointments under Schedules A, B, and C in the excepted service as required by 5 CFR 6.6 and 213.103.

FOR FURTHER INFORMATION CONTACT: C. Penn, Executive Resources Services Group, Center for Human Resources, Division for Human Capital Leadership and Merit System Accountability, 202-606-2246.

SUPPLEMENTARY INFORMATION: Appearing in the listing below are the individual authorities established under Schedules A, B, and C between March 1, 2007, and March 31, 2007. Future notices will be published on the fourth Tuesday of each month, or as soon as possible thereafter. A consolidated listing of all authorities as of June 30 is published each year.

Schedule A

Section 213.3170 Millennium Challenge Corporation

(a) All positions established to create the Millennium Challenge Corporation. No new appointments may be made under this authority after September 30, 2007. Effective April 1, 2007.

Schedule B

No Schedule B appointments were approved for March 2007.

Schedule C

The following Schedule C appointments were approved during March 2007.

Section 213.3303 Executive Office of the President

Office of Science and Technology Policy

TSGS60046 Assistant Director for Telecommunications and Information Technology to the Chief of Staff and General Counsel. Effective March 09, 2007.

TSGS60047 Deputy Chief of Staff and Associate General Counsel to the Chief of Staff and General Counsel. Effective March 09, 2007.

Office of National Drug Control Policy

QQGS70004 Public Affairs Specialist (Media Campaign) to the Associate Director for Public Affairs. Effective March 09, 2007.

QQGS70005 Confidential Assistant to the Deputy Director for Supply Reduction. Effective March 13, 2007.

Section 213.3304 Department of State

DSGS61217 Public Affairs Specialist to the Assistant Secretary for Public Affairs. Effective March 06, 2007.

DSGS61214 Staff Assistant to the Director, Policy Planning Staff. Effective March 09, 2007.

DSGS61220 Senior Advisor to the Assistant Secretary Oceans, International Environment and Science Affairs. Effective March 16, 2007.

DSGS61219 Foreign Affairs Officer to the Assistant Secretary. Effective March 20, 2007.

Section 213.3305 Department of the Treasury

DYGS00488 Executive Assistant to the Special Envoy for China and the Strategic Economic Dialogue. Effective March 09, 2007.

DYGS00489 Operations Coordinator to the Director of Operations. Effective March 15, 2007.

DYGS00424 Senior Advisor to the Assistant Secretary (Economic Policy). Effective March 16, 2007.

DYGS60404 Senior Advisor to the Assistant Secretary (Financial Institutions). Effective March 16, 2007.

DYGS60396 Senior Advisor to the Deputy Assistant Secretary for Business Affairs and Public Liaison. Effective March 28, 2007.

Section 213.3306 Department of Defense

DDGS17019 Defense Fellow to the Special Assistant to the Secretary of Defense for White House Liaison. Effective March 01, 2007.

DDGS17015 Staff Assistant to the Deputy Assistant Secretary of Defense (Detainee Affairs). Effective March 06, 2007.

DDGS17022 Public Affairs Specialist to the Assistant Secretary of Defense Public Affairs. Effective March 12, 2007.

DDGS17012 Public Affairs Specialist to the Assistant Secretary of Defense Public Affairs. Effective March 15, 2007.

DDGS17013 Public Affairs Specialist to the Assistant Secretary of Defense Public Affairs. Effective March 26, 2007.

DDGS17029 Administrative Assistant to the Special Assistant to the Secretary of Defense for White House Liaison. Effective March 27, 2007.

DDGS17023 Public Affairs Specialist to the Assistant Secretary of Defense Public Affairs. Effective March 28, 2007.

DDGS17024 Public Affairs Specialist to the Assistant Secretary of Defense Public Affairs. Effective March 28, 2007.

DDGS17017 Defense Fellow to the Special Assistant to the Secretary of Defense for White House Liaison. Effective March 30, 2007.

Section 213.3307 Department of the Army

DWGS60031 Personal and Confidential Assistant to the General Counsel. Effective March 02, 2007.

Section 213.3308 Department of the Navy

DNGS07110 Confidential Assistant to the Deputy Assistant Secretary of the Navy (Littoral and Mine Warfare Systems). Effective March 02, 2007.

Section 213.3310 Department of Justice

DJGS00127 Chief of Staff and Counsel to the Assistant Attorney General. Effective March 06, 2007.

DJGS00177 Counsel to the Associate Attorney General. Effective March 09, 2007.

DJGS00386 Deputy Director of Scheduling to the Director of Scheduling and Advance. Effective March 28, 2007.

Section 213.3311 Department of Homeland Security

DMGS00642 Special Assistant to the Assistant Commissioner, Congressional Affairs. Effective March 02, 2007.

DMGS00637 Special Assistant to the Chief of Staff. Effective March 07, 2007.

DMGS00645 Special Assistant to the Chief Privacy Officer. Effective March 09, 2007.

DMGS00647 Special Assistant to the Director and Deputy Director to the Under Secretary for Federal Emergency Management. Effective March 09, 2007.

DMGS00643 Supervisory Management and Program Analyst to the Executive Secretary. Effective March 13, 2007.

DMGS00641 Special Assistant to the Chief Medical Officer. Effective March 15, 2007.

DMGS00646 Assistant Press Secretary to the Press Secretary. Effective March 16, 2007.

DMGS00639 Advisor to the Under Secretary for Management to the Chief Human Capital Officer. Effective March 20, 2007.

DMGS00651 Press Assistant to the Press Secretary. Effective March 20, 2007.

DMGS00648 Press Secretary to the Director of External Affairs and Communications. Effective March 26, 2007.

DMGS00652 Director, Ready Campaign to the Assistant Secretary for Public Affairs. Effective March 26, 2007.

DMGS00649 Deputy White House Liaison to the White House Liaison and Advisor. Effective March 27, 2007.

DMGS00650 Special Assistant to the Assistant Secretary, Immigration and Customs Enforcement. Effective March 28, 2007.

DMGS00635 Associate General Counsel for Immigration, Enforcement, and Special Counsel to the General Counsel. Effective March 30, 2007.

Section 213.3312 Department of the Interior

DIGS01087 Special Assistant to the Senior Adviser to the Secretary for Alaskan Affairs. Effective March 19, 2007.

DIGS01098 Deputy Press Secretary to the Director, Office of Communications. Effective March 30, 2007.

Section 213.3313 Department of Agriculture

DAGS00882 Chief of Staff to the Chief, Natural Research Conservation Service. Effective March 05, 2007.

DAGS00883 Special Assistant to the Chief, Natural Research Conservation Service. Effective March 09, 2007.

DAGS00884 Confidential Assistant to the Under Secretary for Marketing and Regulatory Programs. Effective March 19, 2007.

DAGS00885 Confidential Assistant to the Administrator, Food and Nutrition Service. Effective March 29, 2007.

Section 213.3314 Department of Commerce

DCGS00048 Confidential Assistant to the Deputy Under Secretary and Deputy Director of U.S. Patent and Trademark Office. Effective March 02, 2007.

DCGS00264 Special Assistant to the Assistant Secretary for Economic Development. Effective March 02, 2007.

DCGS00520 Special Assistant to the Executive Director for Trade Promotion and Outreach. Effective March 02, 2007.

DCGS00614 Special Assistant to the Executive Director for Trade Promotion and Outreach. Effective March 02, 2007.

DCGS60532 Senior Counsel to the General Counsel. Effective March 02, 2007.

DCGS00547 Confidential Assistant to the Deputy Under Secretary and Deputy Director of U.S. Patent and Trademark Office. Effective March 06, 2007.

DCGS00412 Special Assistant to the Assistant Secretary for Import Administration. Effective March 09, 2007.

DCGS06017 Senior Legislative Counsel to the General Counsel. Effective March 09, 2007.

DCGS00328 Special Assistant to the Director, Advocacy Center. Effective March 15, 2007.

DCGS00380 Confidential Assistant to the Chief of Staff to the Under Secretary, International Trade Administration. Effective March 15, 2007.

DCGS00590 Confidential Assistant to the Director, Executive Secretariat. Effective March 15, 2007.

DCGS00344 Public Affairs Specialist to the Director of Public Affairs. Effective March 30, 2007.

Section 213.3315 Department of Labor

DLGS60267 Special Assistant to the Assistant Secretary for Public Affairs. Effective March 02, 2007.

DLGS60233 Senior Advisor to the Assistant Secretary for Employment Standards. Effective March 28, 2007.

Section 213.3316 Department of Health and Human Services

DHGS60255 Regional Director, Chicago, Illinois-Region V to the Director of Intergovernmental Affairs. Effective March 02, 2007.

Section 213.3317 Department of Education

DBGS00599 Special Assistant to the Secretary's Regional Representative. Effective March 06, 2007.

DBGS00604 Deputy Director, Office of International Affairs to the Director, International Affairs Office. Effective March 15, 2007.

DBGS00603 Secretary's Regional Representative, Region IX to the Director, Regional Services. Effective March 20, 2007.

DBGS00606 Secretary's Regional Representative, Region 3 to the Director, Regional Services. Effective March 22, 2007.

DBGS00607 Confidential Assistant to the Assistant Secretary for Special Education and Rehabilitative Services. Effective March 22, 2007.

Section 213.3318 Environmental Protection Agency

EPGS07000 Deputy Press Secretary to the Associate Administrator for Public Affairs. Effective March 09, 2007.

EPGS07001 Program Advisor to the Associate Administrator for Public Affairs. Effective March 28, 2007.

EPGS07002 Assistant to the Scheduler to the Director of Scheduling. Effective March 28, 2007.

Section 213.3323 Federal Communications Commission

FCGS07077 Associate Director-Senior Speechwriter to the Chairman. Effective March 30, 2007.

Section 213.3330 Securities and Exchange Commission

SEOT60054 Secretary to the Director, Division of Market Regulation. Effective March 07, 2007.

Section 213.3331 Department of Energy

DEGS00567 Deputy Director, Public Affairs to the Director, Public Affairs. Effective March 02, 2007.

DEGS00563 Special Assistant to the Assistant Secretary for Congressional and Intergovernmental Affairs. Effective March 06, 2007.

DEGS00565 Special Assistant, Deputy Director of Scheduling and Advance to the Director, Office of Scheduling and Advance. Effective March 06, 2007.

DEGS00572 Policy Advisor to the Deputy Assistant Secretary for International Affairs. Effective March 06, 2007.

DEGS00574 Deputy Assistant Secretary for Nuclear Energy and Science to the Assistant Secretary for Congressional and Intergovernmental Affairs. Effective March 06, 2007.

DEGS00571 Special Assistant to the Director, Office of Science. Effective March 09, 2007.

DEGS00576 Intergovernmental Liaison Officer to the Assistant Secretary for Congressional and Intergovernmental Affairs. Effective March 15, 2007.

DEGS00577 Staff Assistant to the Director, Office of Scheduling and Advance. Effective March 15, 2007.

DEGS00575 Director of Intergovernmental and Tribal Affairs to the Deputy Assistant Secretary for Intergovernmental and External Affairs. Effective March 20, 2007.

DEGS00579 Senior Policy Advisor to the Deputy Administrator for Defense Nuclear Nonproliferation. Effective March 29, 2007.

Section 213.3332 Small Business Administration

SBGS00612 Deputy Assistant Administrator for Faith Based Community Initiatives to the Director of SBA's Center for Faith-Based and Community Initiatives. Effective March 02, 2007.

SBGS00576 Deputy Associate Administrator for Office of Communications and Public Liaison to the Associate Administrator for Communications and Public Liaison. Effective March 16, 2007.

SBGS00613 Legislative Assistant to the Assistant Administrator for Congressional and Legislative Affairs. Effective March 16, 2007.

Section 213.3333 Federal Deposit Insurance Corporation

FDOT00012 Director for Public Affairs to the Chairman of the Board of Directors (Director). Effective March 30, 2007.

Section 213.3339 United States International Trade Commission

TCGS60005 Staff Assistant (Legal) to a Commissioner. Effective March 23, 2007.

TCGS60006 Staff Assistant (Legal) to a Commissioner. Effective March 23, 2007.

TCGS60025 Staff Assistant (Legal) to a Commissioner. Effective March 23, 2007.

Section 213.3356 Commission on Civil Rights

CCGS60020 Special Assistant to the Commissioner to the Chairman. Effective March 28, 2007.

Section 213.3384 Department of Housing and Urban Development

DUGS60232 Staff Assistant to the Assistant Deputy Secretary for Field Policy and Management. Effective March 09, 2007.

DUGS60289 Special Policy Advisor to the Assistant Secretary for Community Planning and Development. Effective March 16, 2007.

Section 213.3394 Department of Transportation

DTGS60450 Deputy Director for Scheduling and Advance to the Secretary. Effective March 06, 2007.

DTGS60017 Assistant to the Secretary for Policy. Effective March 09, 2007.

DTGS60139 Special Assistant to the Deputy Secretary. Effective March 12, 2007.

DTGS60451 Director of Communications to the Administrator. Effective March 30, 2007.

Section 213.3396 National Transportation Safety Board

TBGS71193 Confidential Assistant to a Member. Effective March 02, 2007.

Authority: 5 U.S.C. 3301 and 3302; E.O. 10577, 3 CFR 1954-1958 Comp., p. 218.

Office of Personnel Management.
Tricia Hollis,
Chief of Staff/Director of External Affairs.

[FR Doc. E7-7609 Filed 4-20-07; 8:45 am]

BILLING CODE 6325-39-P